DEPARTMENT OF COMMERCE

International Trade Administration

[A-570-073]

Common Alloy Aluminum Sheet From the People's Republic of China: Antidumping Duty Order

AGENCY: Enforcement and Compliance, International Trade Administration, Department of Commerce.

SUMMARY: Based on affirmative final determinations by the Department of Commerce (Commerce) and the International Trade Commission (ITC), Commerce is issuing an antidumping duty (AD) order on common alloy aluminum sheet (common alloy sheet) from the People's Republic of China (China).

DATES: Applicable February 8, 2019.

FOR FURTHER INFORMATION CONTACT: Scott Hoefke or Julie Geiger, AD/CVD Operations, Office VI, Enforcement and Compliance, International Trade Administration, U.S. Department of Commerce, 1401 Constitution Avenue NW, Washington, DC 20230; telephone (202) 482-4947 and (202) 482-2057, respectively.

SUPPLEMENTARY INFORMATION:

Background

On November 15, 2018, Commerce published its final determination in the less-than-fair-value (LTFV) investigation of common alloy sheet from China.¹ On January 30, 2019, the ITC notified Commerce of its final determination, pursuant to section 735(b)(1)(A)(i) of the Tariff Act of 1930, as amended (the Act), that an industry in the United States is materially injured within the meaning of section 735(b)(1)(A)(i) of the Act, by reason of the LTFV imports of common alloy sheet from China.² Further, the ITC determined that critical circumstances do not exist with respect to imports of common alloy sheet from China.

¹ See Antidumping Duty Investigation of Common Alloy Aluminum Sheet from the People's Republic of China: Affirmative Final Determination of Sales at Less-Than-Fair Value, 83 FR 57421 (November 15, 2018) (Final Determination).

² See ITC Notification Letter to the Deputy Assistant Secretary for Enforcement and Compliance, referencing ITC Investigation Nos. 701-TA-591 and 731-TA-1399, dated January 30, 2019 (ITC Notification).

Scope of the Order

The product covered by this order is common alloy sheet from China. For a complete description of the scope of this order, see the Appendix to this notice.

Antidumping Duty Order

On January 30, 2019, in accordance with sections 735(b)(1)(A)(i) and 735(d) of the Act, the ITC notified Commerce of its final determination in this investigation, in which it found that imports of common alloy sheet are materially injuring a U.S. industry.³ Therefore, in accordance with section 735(c)(2) of the Act, we are publishing this AD order.

³ See ITC Notification; see also Common Alloy Aluminum Sheet from China (Inv. Nos. 701-TA-591 and 731-TA-1399 (Final), USITC Publication 4861, December 2018).

As a result of the ITC's final determination, in accordance with section 736(a)(1) of the Act, Commerce will direct U.S. Customs and Border Protection (CBP) to assess, upon further instruction by Commerce, antidumping duties on unliquidated entries of subject merchandise from China entered, or withdrawn from warehouse, for consumption on or after June 22, 2018, the date on which Commerce published its preliminary antidumping duty determination in the Federal Register,⁴ and before November 4, 2018, the effective date on which Commerce instructed CBP to discontinue the suspension of liquidation in accordance with section 733(d) of the Act. Section 733(d) of the Act states that the suspension of liquidation pursuant to a preliminary determination may not remain in effect for more than four months. Therefore, entries of subject merchandise from China made on or after November 4, 2018, and prior to the date of publication of the ITC's final determination in the Federal Register are not liable for the assessment of antidumping duties due to Commerce's discontinuation of the suspension of liquidation.

⁴ See Antidumping Duty Investigation of Common Alloy Aluminum Sheet from the People's Republic of China: Affirmative Preliminary Determination of Sales at Less-Than-Fair Value, Preliminary Affirmative Determination of Critical Circumstance, 83 FR 29088 (June 22, 2018) (Preliminary Determination).

Suspension of Liquidation

In accordance with section 735(c)(1)(B) of the Act, Commerce will direct CBP to continue to suspend liquidation on all relevant entries of subject merchandise from China, effective the date of publication of the ITC's notice of final determination in the Federal Register, and to assess, upon further instruction by Commerce pursuant to section 735(c)(1)(B) of the Act, cash deposits equal to the amounts as indicated below. On or after the date of publication of the ITC's final injury determination in the Federal Register, we will instruct CBP to require, at the same time as importers would normally deposit estimated duties on this merchandise, a cash deposit equal to the cash deposit rates listed below. These instructions suspending liquidation will remain in effect until further notice. The all-others rate applies to all producers or exporters not specifically listed, as appropriate.

Provisional Measures

Section 733(d) of the Act states that the suspension of liquidation pursuant to an affirmative preliminary determination may not remain in effect for more than four months, except where exporters representing a significant proportion of exports of the subject merchandise request Commerce to extend that four-month period to no more than six months. At the request of exporters that account for a significant proportion of common alloy sheet from China, we extended the four-month period to six months. Commerce's preliminary determination was published on June 22, 2018. Therefore, the extended period, beginning on the date of publication of the preliminary determinations, ended on December 18, 2018. Pursuant to section 737(b) of the Act, the collection of cash deposits at the rates listed below will begin on the date of publication of the ITC's final injury determination.

Therefore, in accordance with section 733(d) of the Act, Commerce will instruct CBP to terminate the suspension of liquidation and to liquidate, without regard to antidumping duties, unliquidated entries of common alloy sheet from China entered, or withdrawn from warehouse, for consumption after December 18, 2018, the date on which the provisional measures expired, through the day preceding the date of publication of the ITC's final injury determinations in the Federal Register. Suspension of liquidation will resume on the date of publication of the ITC's final determination in the Federal Register.

Estimated Weighted-Average Dumping Margins

The estimated weighted-average AD margins are as follows:

Exporter | Producer | Weighted- average margin (percent) | Cash deposit adjusted for subsidy offset (percent)
Henan Mingtai Al Industrial Co., Ltd./Zhengzhou Mingtai Industry Co., Ltd | Henan Mingtai Al Industrial Co., Ltd./Zhengzhou Mingtai Industry Co., Ltd | 49.85 | 49.85
Alcha International Holdings Limited | Jiangsu Alcha Aluminium Co., Ltd | 49.85 | 49.85
Alumax Composite Material (Jiangyin) Co., Ltd | Chalco Ruimin Co., Ltd | 49.85 | 49.85
Granges Aluminum (Shanghai) Co., Ltd | Granges Aluminum (Shanghai) Co., Ltd | 49.85 | 49.85
Henan Founder Beyond Industry Co., Ltd | Henan Xintai Aluminum Industry Co., Ltd | 49.85 | 49.85
Huafon Nikkei Aluminium Corporation | Huafon Nikkei Aluminium Corporation | 49.85 | 49.85
Jiangsu Lidao New Material Co., Ltd | Henan Jinyang Luyue Co., Ltd | 49.85 | 49.85
Jiangsu Lidao New Material Co., Ltd | Jiangsu Zhong He Aluminum Co., Ltd | 49.85 | 49.85
Jiangyin Litai Ornamental Materials Co., Ltd | Jiangyin Litai Ornamental Materials Co., Ltd | 49.85 | 49.85
Jiangyin New Alumax Composite Material Co. Ltd | Chalco Ruimin Co., Ltd | 49.85 | 49.85
Shandong Fuhai Industrial Co., Ltd | Shandong Fuhai Industrial Co., Ltd | 49.85 | 49.85
Tianjin Zhongwang Aluminium Co., Ltd | Tianjin Zhongwang Aluminium Co., Ltd | 49.85 | 49.85
Xiamen Xiashun Aluminum Foil Co., Ltd | Xiamen Xiashun Aluminum Foil Co., Ltd | 49.85 | 49.85
Yantai Jintai International Trade Co., Ltd | Shandong Nanshan Aluminium Co., Ltd | 49.85 | 49.85
Yinbang Clad Material Co., Ltd | Yinbang Clad Material Co., Ltd | 49.85 | 49.85
Zhengzhou Silverstone Limited | Henan Zhongyuan Aluminum Co., Ltd | 49.85 | 49.85
Zhengzhou Silverstone Limited | Luoyang Xinlong Aluminum Co., Ltd | 49.85 | 49.85
Zhengzhou Silverstone Limited | Shanghai Dongshuo Metal Trade Co., Ltd | 49.85 | 49.85
Zhengzhou Silverstone Limited | Zhengzhou Mingtai Industry Co., Ltd | 49.85 | 49.85
China-Wide Entity ⁵ |  | 59.72 | 59.72

Critical Circumstances

⁵ The China-wide entity also includes the following companies that filed separate rate applications: Nanjie Resources Co., Limited, Yong Jie New Material Co., Ltd., and Zhejiang Yongjie Aluminum Co., Ltd., Zhejiang GKO Aluminium Stock Co., Ltd.; Alnan Aluminium Inc.; Chalco Ruimin Co., Ltd.; CHALCO-SWA Cold Rolling Co., Ltd.; Luoyang Wanji Aluminium Processing Co., Ltd.; and Wanji Global (Singapore) PTE. LTD.

With regard to the ITC's negative critical circumstances determination on imports of common alloy sheet from China, we will instruct CBP to lift suspension and to refund any cash deposits made to secure the payment of estimated antidumping duties with respect to entries of subject merchandise ordered, or withdrawn from warehouse, for consumption on or after March 24, 2018 (i.e., 90 days prior to the date of publication of the Preliminary Determination), but before June 22, 2018 (i.e., the date of publication of the Preliminary Determination).

Notification to Interested Parties

This notice constitutes the AD order with respect to common alloy sheet from China pursuant to section 736(a) of the Act. Interested parties can find a list of AD orders currently in effect at https://enforcement.trade.gov/stats/iastats1.html.

This order is issued and published in accordance with section 736(a) of the Act and 19 CFR 351.211.

Dated: February 5, 2019.
Christian Marsh,
Deputy Assistant Secretary for Enforcement and Compliance.

Appendix

Scope of the Order

The merchandise covered by this order is aluminum common alloy sheet (common alloy sheet), which is a flat-rolled aluminum product having a thickness of 6.3 mm or less, but greater than 0.2 mm, in coils or cut-to-length, regardless of width. Common alloy sheet within the scope of this order includes both not clad aluminum sheet, as well as multi-alloy, clad aluminum sheet. With respect to not clad aluminum sheet, common alloy sheet is manufactured from a 1XXX-, 3XXX-, or 5XXX-series alloy as designated by the Aluminum Association. With respect to multi-alloy, clad aluminum sheet, common alloy sheet is produced from a 3XXX-series core, to which cladding layers are applied to either one or both sides of the core.

Common alloy sheet may be made to ASTM specification B209-14, but can also be made to other specifications. Regardless of specification, however, all common alloy sheet meeting the scope description is included in the scope. Subject merchandise includes common alloy sheet that has been further processed in a third country, including but not limited to annealing, tempering, painting, varnishing, trimming, cutting, punching, and/or slitting, or any other processing that would not otherwise remove the merchandise from the scope of the order if performed in the country of manufacture of the common alloy sheet.

Excluded from the scope of this order is aluminum can stock, which is suitable for use in the manufacture of aluminum beverage cans, lids of such cans, or tabs used to open such cans. Aluminum can stock is produced to gauges that range from 0.200 mm to 0.292 mm, and has an H-19, H-41, H-48, or H-391 temper. In addition, aluminum can stock has a lubricant applied to the flat surfaces of the can stock to facilitate its movement through machines used in the manufacture of beverage cans. Aluminum can stock is properly classified under Harmonized Tariff Schedule of the United States (HTSUS) subheadings 7606.12.3045 and 7606.12.3055.

Where the nominal and actual measurements vary, a product is within the scope if application of either the nominal or actual measurement would place it within the scope based on the definitions set for the above.

Common alloy sheet is currently classifiable under HTSUS subheadings 7606.11.3060, 7606.11.6000, 7606.12.3090, 7606.12.6000, 7606.91.3090, 7606.91.6080, 7606.92.3090, and 7606.92.6080. Further, merchandise that falls within the scope of this order may also be entered into the United States under HTSUS subheadings 7606.11.3030, 7606.12.3030, 7606.91.3060, 7606.91.6040, 7606.92.3060, 7606.92.6040, 7607.11.9090. Although the HTSUS subheadings are provided for convenience and customs purposes, the written description of the scope of this order is dispositive.

[FR Doc. 2019-01836 Filed 2-6-19; 4:15 pm]

BILLING CODE 3510-DS-P